DEPARTMENT OF THE INTERIOR

Bureau of Land Management

[ES-960-1420-BJ-TRST] ES-052133, Group No. 166, Minnesota

Eastern States: Filing of Plat of Survey

AGENCY: Bureau of Land Management, Interior.

ACTION: Notice of filing of plat of survey; Minnesota.

SUMMARY: The Bureau of Land Management (BLM) will file the plat of survey of the lands described below in the BLM-Eastern States, Springfield, Virginia, 30 calendar days from the date of the publication in the Federal Register.

FOR FURTHER INFORMATION CONTACT: Bureau of Land Management, 7450 Boston Boulevard, Springfield, Virginia 22153. Attn: Cadastral Survey.

SUPPLEMENTARY INFORMATION: This survey was requested by the Bureau of Indian Affairs.

The lands we surveyed are:

Fifth Principal Meridian, Minnesota

T. 145 N., R. 39 W.

The plat of survey represents the dependent resurvey of a portion of the north and west boundaries, a portion of the subdivisional lines, and the survey of the subdivision of sections 5, 6, 11, 21, 27, and 29, Township 145 North, Range 39 West, Fifth Principal Meridian, in the state of Minnesota, and was accepted July 29, 2004. We will place a copy of the plat we described in the open files. It will be available to the public as a matter of information.

If BLM receives a protest against this survey, as shown on the plat, prior to the date of the official filing, we will stay the filing pending our consideration of the protest. We will not officially file the plat until the day after we have accepted or dismissed all protests and they have become final, including decisions on appeals.

Dated: July 23, 2004.
Stephen D. Douglas,
Chief Cadastral Surveyor.

[FR Doc. 04-19344 Filed 8-23-04; 8:45 am]

BILLING CODE 4310-0J-M